DEPARTMENT OF THE TREASURY

Customs Service

[T.D. 00-19]

Retraction of Revocation Notice

AGENCY: U.S. Customs Service, Department of the Treasury.

ACTION: General notice.

SUMMARY: The following Customs broker license was erroneously included in a previously published list of revoked Customs brokers licenses in the Federal Register.

Port | Name | License No.
Miami | Joseph Charlton | 11009
License 11009 is valid.

Dated: March 9, 2000.
Raymond W. Kelly,
Commissioner.

[FR Doc. 00-7132 Filed 3-22-00; 8:45 am]

BILLING CODE 4820-02-P